DEPARTMENT OF STATE

[Public Notice 12036]

Listening Session on Modernizing the Columbia River Treaty Regime

ACTION: Notice of meeting.

SUMMARY: The Department of State will hold a virtual listening session, on April 19, 2023, to discuss the modernization of the Columbia River Treaty (CRT) regime.

DATES: The session will be held on Wednesday, April 19, 2023, from 8 p.m.-9:30 p.m. ET (5 p.m.-6:30 p.m. PT).

ADDRESSES: The session will be held virtually.

FOR FURTHER INFORMATION CONTACT: Office of Canadian Affairs, Department of State, (202) 647-2170, ColumbiaRiverTreaty@state.gov.

SUPPLEMENTARY INFORMATION: This listening session is part of the Department's public engagement on the modernization of the CRT regime. (Per 22 U.S.C. 2651a and 2656) The session is open to the public. To register, go to: https://statedept.zoomgov.com/webinar/register/WN_XKI6Hk8TRn-n8xOAnHPA-g. Requests for reasonable accommodation should be made to the email listed above, on or before April 9, 2023. The Department will consider requests made after that date, but might not be able to accommodate them. More information about the meeting, including call-in information, can be found at https://www.state.gov/virtual-listening-session-following-the-16th-round-of-negotiations-to-modernize-the-columbia-river-treaty-regime/ or by emailing the email address listed above. Questions can be submitted in advance at ColumbiaRiverTreaty@state.gov for consideration.

Authority: 22 U.S.C. 2651a, 2656; 5 U.S.C. 552.

Jennifer L. Savage,
Director, Office of Canadian Affairs, Department of State.

[FR Doc. 2023-07000 Filed 4-4-23; 8:45 am]

BILLING CODE 4710-29-P